DEPARTMENT OF ENERGY

Federal Energy Regulatory Commission

[Docket No. PL24-1-000]

Project-Area Wage Standards in the Labor Cost Component of Cost-of-Service Rates

AGENCY: Federal Energy Regulatory Commission, Department of Energy.

ACTION: Policy statement.

SUMMARY: The Federal Energy Regulatory Commission (Commission) clarifies how the Commission will treat the use of project-area wage standards in calculating the labor cost component of jurisdictional cost-of-service rates.

DATES: This policy statement is effective June 26, 2024.

FOR FURTHER INFORMATION CONTACT:

Heidi Nielsen (Legal Information), Office of the General Counsel, (202) 502-8435, heidi.nielsen@ferc.gov

Adam Pollock (Technical Information), Office of Energy Market Regulation, (202) 502-8458, adam.pollock@ferc.gov

James Sarikas (Technical Information), Office of Energy Market Regulation, (202) 502-6831, james.sarikas@ferc.gov

SUPPLEMENTARY INFORMATION: 1. On October 19, 2023, the Commission issued a proposed policy statement,¹ proposing to clarify how it will treat the use of project-area wage standards in calculating the labor cost component of cost-of-service rates, including under Natural Gas Act (NGA) sections 4, 5, and 7, 15 U.S.C. 717c-d, 717f; the Interstate Commerce Act (ICA), 49 U.S.C. app. 1(5)(a); and Federal Power Act (FPA) sections 205 and 206, 16 U.S.C. 824d-e.² In this Policy Statement, we adopt the proposals in the Proposed Policy Statement, as discussed below.

¹ Project-Area Wage Standards in the Labor Cost Component of Cost-of-Service Rates, 185 FERC ¶ 61,049 (2023) (Proposed Policy Statement).

² While most interstate oil pipelines have market-based or indexed rates, some jurisdictional pipelines have cost-of-service rates on file with the Commission.

I. Background

A. Current Commission Precedent

2. Project-area wage standards are the prevailing wages set by labor markets in the locale where the associated project work (e.g., construction, capital repairs, decommissioning) is performed. Those prevailing wages can be found in data sources that indicate the basic hourly wage rates and fringe benefit rates for labor, direct employees, and/or contract personnel that prevail in a particular geographic area. For example, under the Davis-Bacon Act, the U.S. Department of Labor issues prevailing wage determinations based on periodic surveys of union and non-union wages paid in a particular location. These determinations serve as the minimum wage that must be paid by contractors and subcontractors performing under certain federally funded or assisted construction contracts.³ A number of states have enacted their own prevailing wage laws, sometimes referred to as “Little Davis-Bacon” laws.⁴

³ “By requiring the payment of minimum prevailing wages, Congress sought to `ensure that Government construction and federally assisted construction would not be conducted at the expense of depressing local wage standards.'” Dep't of Labor, Updating the Davis-Bacon & Related Acts Reguls., 88 FR 57526, 57526 (Aug. 23, 2023) (citing Determination of Wage Rates Under the Davis-Bacon & Serv. Cont. Acts 5 Op. O.LC. 174, 176 (1981)) (Final Rule).

⁴ Dep't of Labor, Dollar Threshold Amount for Contract Coverage under State Prevailing Wage Laws (Jan. 1, 2023), https://www.dol.gov/agencies/whd/state/prevailing-wages.

3. The Commission addressed the treatment of project-area wages in natural gas pipeline cost-of-service rates in Opinion Nos. 510 and 524.⁵ In Opinion No. 510, the Commission rejected a pipeline operator's proposal to use union-only wage rates from a single proxy location to estimate the labor cost of decommissioning its pipeline that spanned four states,⁶ finding that the pipeline operator had not carried its burden under NGA section 4 to show that it would use union labor and that, based on the evidence in that proceeding, it was accordingly reasonable to estimate labor costs using a “blended” mix of average union and non-union wage rates in the general private construction industry in the states where the pipeline was located, “weighted” by the length of pipe in each state.⁷ The Commission subsequently applied the same approach in Opinion No. 524, finding that the same operator had again failed to present sufficient supporting evidence for its proposal to use union-only wage rates in its estimate of decommissioning labor costs.⁸

⁵ Portland Nat. Gas Transmission Sys., Opinion No. 510, 134 FERC ¶ 61,129 (2011), reh'g granted in part, 142 FERC ¶ 61,198 (2013), reh'g dismissed, 150 FERC ¶ 61,106 (2015); Portland Nat. Gas Transmission Sys., Opinion No. 524, 142 FERC ¶ 61,197 (2013), reh'g denied, 150 FERC ¶ 61,107 (2015). Among other things, these proceedings involved estimating the expected costs for future pipeline retirements, specifically, determining the labor component for decommissioning costs to be recovered by a pipeline operator, Portland Natural Gas Transmission System.

⁶ Opinion No. 510, 134 FERC ¶ 61,129 at P 124.

⁷ Id.

⁸ Opinion No. 524, 142 FERC ¶ 61,197 at PP 162-64.

B. Proposed Policy Statement

4. In the Proposed Policy Statement, the Commission proposed to clarify that Opinion Nos. 510 and 524 were based on the record evidence before the Commission in those proceedings and do not reflect a heightened standard of review with respect to project-area wage rates.⁹ The Commission proposed that jurisdictional entities should be able to include wages consistent with project-area wage standards in cost-of-service rates filed with the Commission where the record supports that outcome.

⁹ Proposed Policy Statement, 185 FERC ¶ 61,049 at P 4.

5. Specifically, the Commission proposed that, when a Commission-jurisdictional entity presents evidence that it: (1) pays project-area wage standards; (2) is contractually obligated to pay project-area wage standards; or (3) commits via affidavit filed in the rate proceeding that it will pay project-area wage standards, the Commission will presume, absent contrary evidence, that such project-area wage standards are just and reasonable for the relevant labor-cost component.¹⁰ Furthermore, the Commission proposed that it will reject the inclusion of labor wages consistent with project-area wage standards in cost-of-service rates when the evidence demonstrates that the jurisdictional entity has not paid or will not be paying labor wages consistent with project-area wage standards.

¹⁰ Id. P 5.

6. The Commission proposed to accept as evidence of project-area wage standards: (1) Davis-Bacon Act local prevailing wage determinations; (2) state prevailing wage determinations; (3) applicable collective-bargaining agreements or Project Labor Agreements; or (4) other evidence demonstrating the prevailing wages paid in the relevant locale(s), such as an industry-accepted database used in construction cost estimates.¹¹ The Commission sought comment on the appropriateness of the four proposed sources of project-area wage standards. In particular, the Commission sought comment on the appropriateness of using industry databases with construction cost estimates as a source of project-area wage standards as well as whether any project-area wage standards might not be captured in the first three listed categories.

¹¹ Id. P 6.

7. The Commission further proposed that jurisdictional entities seeking to include project-area wage standards in cost-of-service rates should maintain and preserve records, including books of account or records for work performed by employees, contractors or subcontractors, sufficient to demonstrate that claimed project-area wages were actually paid.¹²

¹² Id. P 7.

II. Comments

8. Comments were filed by: CenterPoint Energy Minnesota Resources Corp dba CenterPoint Energy Minnesota Gas (CenterPoint); Charps, LLC; Enbridge (U.S.) Inc. (Enbridge); Illinois Commerce Commissioners Doug P. Scott, Michael T. Carrigan, and Conrad R. Reddick (Illinois Commerce Commissioners); International Union of Operating Engineers; Interstate Natural Gas Association of America (INGAA); Laborers' International Union of North America (LIUNA); Pe Ben USA, Inc.; Minnesota Public Utilities Commission (Minnesota Commission); Pennsylvania Public Utility Commissioner Kathryn Zerfuss (Pennsylvania Commissioner Zerfuss); Pipe Line Contractors Association; Pipeliners Union 798 United Association; Price Gregory International; R.L. Coolsaet Construction Company; Southern Star Central Gas Pipeline, Inc. (Southern Star); and Teamsters National Pipeline Labor Management Cooperation Trust.

9. Commenters broadly support the issuance of a policy statement that clarifies how the Commission will treat the use of project-area wage standards in calculating the labor cost component of jurisdictional cost-of-service rates.¹³ Commenters disagree, however, on whether jurisdictional entities should be able to use sources other than collective bargaining agreements for the project-area wage standard.

¹³ Illinois Commerce Commissioners, Minnesota Commission, and Pennsylvania Commissioner Zerfuss support the use of prevailing wages.

10. Labor unions (including International Union of Operating Engineers, LIUNA, Pipeline Local Union 798, Pipe Line Contractors Association, and Teamsters National Pipeline Labor Management Cooperation Trust); Charps, LLC; PE Ben USA, Inc.; Price Gregory International; and R.L. Coolsaet Construction Company argue that collective bargaining rates should be the only metric for project-area wages when an operator certifies the employment of union labor.¹⁴ LIUNA and Pipe Line Contractors Association explain that collectively bargained rates not only reflect actual wage and fringe benefit rates paid to the project workforce, including per diem rates but also are legally binding and can be verified by the Commission.¹⁵ CenterPoint states that collectively bargained rates via the union or project agreement accurately reflect the actual labor cost, especially for unexpected infrastructure work where time is critical, and ensures that work is done quickly while maintaining high quality and safety.¹⁶

¹⁴ Charps, LLC Comments at 1; International Union of Operating Engineers Comments at 2; LIUNA Comments at 2-4; PE Ben USA, Inc. Comments at 1; Pipeline Local Union 798 Comments at 1; Pipe Line Contractors Association Comments at 2; Price Gregory International Comments at 1; R.L. Coolsaet Construction Company Comments at 1; Teamsters National Pipeline Labor Management Cooperation Trust Comments at 2.

¹⁵ LIUNA Comments at 2; Pipe Line Contractors Association Comments at 2. See also PE Ben USA, Inc. Comments at 1; Price Gregory International Comments at 1; R.L. Coolsaet Construction Company Comments at 1.

¹⁶ CenterPoint Comments at 2.

11. International Union of Operating Engineers argues that the Commission should only use Davis-Bacon and state prevailing wages if they have been updated recently and reflect actual wages received (e.g., collectively bargained rates), not a metric unused by any other public agency or construction estimator.¹⁷

¹⁷ International Union of Operating Engineers Comments at 2.

12. International Union of Operating Engineers cautions against the use of a “blended wage rate” (i.e., the average of union and non-union wages in the general private construction industry within the states where the pipeline is located) to reimburse pipeline operator costs for several reasons: (1) it distorts the actual wages paid to workers; (2) it relies upon the Bureau of Labor and Statistics' Occupational Employment Statistics that do not segment the industry into industry groups (e.g., heavy, highway, building, residential); (3) it includes the residential construction industry, which requires different skill sets than industrial work; (4) it fails to incorporate fringe benefits; and (5) it disincentivizes the use of union contractors because they are not able to recover labor costs and gives a false impression that union labor is more expensive.¹⁸

¹⁸ Id. at 1-2.

13. Pipe Line Contractors Association state that, in the absence of a union commitment, it may be appropriate for the Commission to consider other sources after verifying that the source's labor rates reasonably reflect actual wages and fringe benefit rates that would need to be paid to recruit and retain a qualified workforce.¹⁹ However, Pipe Line Contractors Association opposes the inclusion of “other industry-accepted wage sources” and asks the Commission to rely solely on the other three sources. It urges the Commission to limit the use of costing databases because such databases are usually based on national averages or averages for the entire construction industry and exclude vital compensation components such as fringe benefit and per diem rates (e.g., crew costs in RSMeans, a construction costing application, only include the hourly wage rate and contractor overhead costs, not compensation sources). It also urges the Commission not to use costing databases with wage rates from the Bureau of Labor Statistics because: (1) its occupational wage rates are based on a rolling three-year cycle that constitute historical wages and lag behind current market trends; (2) its wage data does not capture sectoral differences, which is important because pipeline construction requires higher skills and operator qualification; and (3) it excludes fringe benefit contribution rates, per diem rates, and training investments, which are critical compensation inputs for the pipeline industry.

¹⁹ Pipe Line Contractors Association Comments at 2.

14. CenterPoint contends that the database would be useful if it is specific to the local affected community, stating that national databases are less useful, especially in the current labor market with labor rates varying widely across the country.²⁰ Enbridge and Southern Star argue that, as long as the source for compensation levels reflects actual market conditions necessary to attract a highly skilled workforce, and the operator can certify that those rates were paid or will be paid, the Commission should defer these labor decisions to the operator and find these costs to be just and reasonable.²¹ Southern Star states that there are several legitimate business reasons for employing a workforce with a higher labor rate.²² Southern Star notes, for example, that a pipeline often requires a specialized workforce with advanced skills, experience, and training which may offer alternative cost savings other than the baseline labor rate, or other advantages such as in the area of safety.

²⁰ CenterPoint Comments at 2.

²¹ Enbridge Comments at 3-4; Southern Star Comments at 4.

²² Southern Star Comments at 3.

15. INGAA states that it is appropriate to accept and evaluate submitted evidence from industry databases and other evidence to demonstrate prevailing wages paid in the relevant locale(s), adding that the Commission strikes an appropriate balance between offering definitive guidance on how to demonstrate wage standards and retaining the flexibility that has been the hallmark of rate cases before the Commission.²³

²³ INGAA Comments at 2.

III. Commission Determination

16. As explained in the Proposed Policy Statement, Opinion Nos. 510 and 524 were based on the record evidence before the Commission in those proceedings and do not reflect a heightened standard of review with respect to project-area wage rates.²⁴ We adopt the proposals in the Proposed Policy Statement to allow jurisdictional entities to include wages consistent with project-area wage standards in cost-of-service rates filed with the Commission where the record supports that outcome. Specifically, when a Commission-jurisdictional entity presents evidence that it: (1) pays project-area wage standards; (2) is contractually obligated to pay project-area wage standards; or (3) commits via affidavit ²⁵ filed in the rate proceeding that it will pay project-area wage standards, the Commission will presume, absent contrary evidence, that such project-area wage standards are just and reasonable for the relevant labor-cost component.²⁶ Furthermore, the Commission will reject the inclusion of labor wages consistent with project-area wage standards in cost-of-service rates when the evidence demonstrates that the jurisdictional entity has not paid or will not be paying labor wages consistent with project-area wage standards.

²⁴ Proposed Policy Statement, 185 FERC ¶ 61,049 at P 4.

²⁵ We remind filers that all information submitted in cost-of-service filings must be truthful and accurate, see 18 CFR 35.13(d)(6) (“A utility shall include in its filing an attestation . . . that . . . the cost of service statements and supporting data submitted . . . are true, accurate, and current representations of the utility's books, budgets, or other corporate documents.”), 154.308 (“The filing must include a statement . . . representing that the cost statements, supporting data, and workpapers, that purport to reflect the books of the company do, in fact, set forth the results shown by such books.”), 341.1(b)(1) (“The signature on a filing constitutes a certification that the contents are true to the best knowledge and belief of the signer . . . .”), and that failure to meet this requirement may result in a referral to the Office of Enforcement for further investigation and action, as appropriate.

²⁶ Consistent with 48 CFR 22.401, this policy statement applies to employee or contract labor whose duties are primarily manual or physical in nature, as distinguished from mental or managerial, and did not apply to employees or contractors whose duties are primarily executive, supervisory, administrative, or clerical. For purposes of this policy statement, “wages” mean the basic hourly pay rate including fringe benefits, as more fully defined in 48 CFR 22.401.

17. We adopt the Proposed Policy Statement's proposal regarding the sources of project-area wage standards, as clarified below. Pursuant to the framework discussed below, we find that appropriate sources of project-area wage standards may include: (1) applicable collective-bargaining agreements or Project Labor Agreements; ²⁷ (2) Davis-Bacon Act local prevailing wage determinations; ²⁸ (3) state prevailing wage determinations; ²⁹ or (4) other evidence demonstrating the prevailing wages paid in the relevant locale(s), such as an industry-accepted database used in construction cost estimates.³⁰

²⁷ Project Labor Agreements are agreements between building trade unions and contractors. They govern terms and conditions of employment (including wage-related issues) on a construction project for all craft workers—union and nonunion. Dep't of Labor, Project Labor Agreement Res. Guide, Project Labor, Cmty. Workforce, & Cmty. Benefits Agreements Res. Guide, ¶ 1, https://www.dol.gov/general/good-jobs/project-labor-agreement-resource-guide.

²⁸ Pursuant to the Davis-Bacon Act, as amended and codified at 40 U.S.C. 3141(2), the term “prevailing wages” includes the basic hourly rate of pay and fringe benefits, as determined by the Department of Labor. See Final Rule, 88 FR at 57526 (citing 40 U.S.C. 3142, 3145), 57531, 57546, 57699, 57722-724.

²⁹ The applicable state prevailing wage determination should meet or exceed the Davis-Bacon Act local prevailing wage determinations.

³⁰ Proposed Policy Statement, 185 FERC ¶ 61,049 at P 6.

18. In considering these sources of project-area wage standards, we clarify that the Commission will look to applicable collective-bargaining agreements or Project Labor Agreements as an appropriate default source of project-area wage standards. We find that it is appropriate to identify these agreements as the default source of project-area wage standards because collectively bargained wages reflect actual wage and fringe benefit rates paid to the project workforce, including per diem rates. Moreover, such wages are legally binding and can be verified by the Commission. By comparison, labor costs based upon Davis-Bacon Act data are estimates of future costs based on average local wages, which may differ from the actual wages paid by a jurisdictional entity.

19. We find, however, that there could be circumstances when a jurisdictional entity uses collectively bargained wages for only part of its workforce or that collective bargained wage data is otherwise not representative of the jurisdictional entity's future labor costs. For example, as Southern Star points out, jurisdictional entities may need to hire higher-wage specialized workers, which could justify the use of sources other than collective-bargaining agreements or Project Labor Agreements. For these reasons, a jurisdictional entity may use the other three data sources enumerated in the Proposed Policy Statement ³¹ if the jurisdictional entity provides a detailed explanation of why these sources: (1) better reflect actual wages than relying on collective-bargaining agreements or Project Labor Agreements; and (2) accurately reflect wage information during the project period, including demonstrating that it is based on up-to-date data.

³¹ See supra P 6.

20. Finally, we adopt the Proposed Policy Statement proposal that jurisdictional entities seeking to include project-area wage standards in cost-of-service rates should maintain and preserve records, including books of account or records for work performed by employees, contractors or subcontractors, sufficient to demonstrate that claimed project-area wages were actually paid.³²

³² Proposed Policy Statement, 185 FERC ¶ 61,049 at P 7.

IV. Information Collection Statement

21. The Paperwork Reduction Act and the implementing regulations of the Office of Management and Budget (OMB) require approval of certain information collection requirements imposed by an agency. Upon approval of a collection of information, OMB will assign an OMB Control Number and an expiration date. Respondents subject to the filing requirements will not be penalized for failing to respond to the collection of information unless the collection of information displays a valid OMB control number.

22. This Policy Statement clarifies how the Commission will treat the use of project-area wage standards in calculating the labor cost component of jurisdictional cost-of-service rates filed by a natural-gas company, interstate oil pipeline, or public utility, pursuant to NGA sections 4, 5 and 7, 15 U.S.C. 717c-d, 717f; ICA, 49 U.S.C. app. 1(5)(a); and FPA sections 205 and 206, 16 U.S.C. 824d-e, respectively.

23. The Commission is submitting these reporting requirements to OMB for its review and approval under section 3507(d) of the Paperwork Reduction Act. Comments are solicited on whether the information will have practical utility, the accuracy of provided burden estimates, ways to enhance the quality, utility, and clarity of the information to be collected, and any suggested methods for minimizing the respondent's burden, including the use of automated information techniques.

24. Send written comments on the revisions to the information collections in Docket No. PL24-1-000 to OMB through www.reinfo.gov/public/do/PRAMain. Attention: Federal Energy Regulatory Commission Desk Officer. Please identify the OMB Control Number (identified in paragraph 25 below) in the subject line of your comments. Comments should be sent within 30 days of publication of this docket to www.reginfo.gov/public/do/PRAMain. Additionally, please submit copies of your comments (identified by Docket No. PL24-1-000) by either of the following methods: (1) eFiling at Commission's website: http://www.ferc.gov/docs-filing/efiling.asp or (2) Mail/Hand Delivery/Courier: Federal Energy Regulatory Commission, Secretary of the Commission, at Health and Human Services, 12225 Wilkins Avenue, Rockville, Maryland 20852. All submissions must be formatted and filed in accordance with submission guidelines at: http://www.ferc.gov/help/submission-guide.asp. For user assistance, contact FERC Online Support by email at ferconlinesupport@ferc.gov, or by phone at: (866) 208-3676 (toll-free).

25. Collection Nos., Titles and OMB Control Nos.: FERC-516J (Labor Wage Policy Statement, OMB Control No. 1902-TBD); FERC-537 (Gas Pipeline Certificates: Construction, Acquisition and Abandonment; OMB Control No. 1902-0060); FERC-538 (Gas Pipeline Certificates: Section 7(a) Mandatory Initial Service, OMB Control No. 1902-0061); FERC-545 (Gas Pipeline Rates: Rate Change (Non-formal), OMB Control No. 1902-0154); FERC-546 (Certificated Rate Filings: Gas Pipeline Rates, OMB Control No. 1902-0155); FERC-550 (Oil Pipeline Rates—Tariff Filings and Depreciation Studies, OMB Control No. 1902-0089); FERC-555 (Preservation of Records for Public Utilities and Licensees, Natural Gas and Oil Pipeline Companies, OMB Control No. 1902-0098).

26. Action: Revisions to the collections of information in accordance with the Policy Statement.

27. Respondents: The estimate of the number of respondents that may elect to use project-area wage standards in calculating the labor cost component of cost-of-service rates is based upon the existing burden inventory currently approved by OMB for filing rates cases, depreciation studies and certificate filings, include initial rates or seeking approval to charge existing rates for natural gas companies, public utilities and oil pipelines. This burden estimate is based upon one-third of the filings electing to include an additional burden by the filer to incorporate labor costs based upon paying wages that at minimum meet project-area wage standards.

28. Frequency of Information Collection: Jurisdictional entities, when including elements in rates reflecting future capital costs, may elect to make the above showings in support of wages that are at or above project-area wage standards. Such proceedings may include but are not limited to certificates for new natural gas pipelines, general natural gas pipeline and electric utility rate cases, proposed new or modified depreciation rates, and proposed inclusion of asset retirement obligation in rates. In total, jurisdictional entities may make such a showing one time per year.

29. Necessity of Information: The information would be necessary for the jurisdictional entity to receive the presumption that wages for capital projects that are at or above project-area wage standards are not just and reasonable.

30. Internal Review: The Commission has reviewed the changes and has determined that such changes are necessary. These requirements conform to the Commission's need for efficient information collection, communication, and management within the energy industry in support of the Commission's ensuring just and reasonable rates. The Commission has specific, objective support for the burden estimates associated with the information collection requirements. However, we request comments with supporting background information on the estimates for burden and cost.

31. The Commission estimates the effect of the Policy Statement on burden ³³ and cost ³⁴ as follows:

³³ “Burden” is the total time, effort, or financial resources expended by persons to generate, maintain, retain, or disclose or provide information to or for a Federal agency. For further explanation of what is included in the estimated burden, refer to 5 CFR 1320.3.

³⁴ Commission staff estimates that the respondents' skill set (and wages and benefits) for this docket are comparable to those of Commission employees. Based on the Commission's Fiscal Year 2023 average cost of $207,786/year (for wages plus benefits, for one full-time employee), $100.00/hour is used.

32.

Estimates of the Effects Due to the Policy Statement in Docket No. PL24-1-000
A. Information collection | B. Number of respondents | C. Annual number of responses per respondent | D. Total number of responses | E. Average burden hours and cost per response | F. Total annual hour burdens & total annual cost | G. Cost per respondent
|  |  | (column B × column C) |  | (column D × column E) | (column F ÷ column B)
FERC-516J ³⁵ | 6 | 1 | 6 | 15 hrs. $1,500 | 90 hrs. $9,000 | $1,500
Other Affected Collections ³⁶
FERC-537 | 22 | 1 | 22 | 15 hrs. $1,500 | 330 hrs. $33,000 | 1,500
FERC-538 | 1 | 1 | 1 | 15 hrs. $1,500 | 15 hrs. $1,500 | 1,500
FERC-546 | 16 | 1 | 16 | 15 hrs. $1,500 | 240 hrs. $24,000 | 1,500
FERC-550 | 7 | 1 | 7 | 15 hrs. $1,440 | 105 hrs. $10,500 | 1,500
FERC-545 | 11 | 1 | 11 | 15 hrs. $1,500 | 165 hrs. $16,500 | 1,500
FERC-555 | 170 | 1 | 170 | 1 hr. $500 | 170 hrs. $17,000 | 100
Total Effect of the Policy Statement |  |  | 233 |  | 1,115 hrs. $111,500 |

V. Document Availability

³⁵ The FERC-516J is a new temporary collection number that includes the burden changes due to this Policy Statement. This temporary number will be used for the burden related to the FERC-516 (OMB# 1902-0096) information collection (IC). Note: In the Proposed Policy Statement, the Commission referenced the FERC-1006 temporary collection, which will no longer be used because most of the information collection requests have been approved by OMB since the publication of the Proposed Policy Statement.

³⁶ Since the issuance of the Proposed Policy Statement, OMB has approved data collections FERC-545, -555, -537.

33. In addition to publishing the full text of this document in the Federal Register, the Commission provides all interested persons an opportunity to view and/or print the contents of this document via the internet through the Commission's Home Page (http://www.ferc.gov).

34. From the Commission's Home Page on the internet, this information is available on eLibrary. The full text of this document is available on eLibrary in PDF and Microsoft Word format for viewing, printing, and/or downloading. To access this document in eLibrary, type the docket number excluding the last three digits of this document in the docket number field.

35. User assistance is available for eLibrary and the Commission's website during normal business hours from FERC Online Support at (202) 502-6652 (toll free at 1-866-208-3676) or email at ferconlinesupport@ferc.gov, or the Public Reference Room at (202) 502-8371, TTY (202) 502-8659. Email the Public Reference Room at public.referenceroom@ferc.gov.

VI. Effective Date

36. This Policy Statement will become effective on June 26, 2024.

By the Commission.
Issued: March 21, 2024.
Debbie-Anne A. Reese,
Acting Secretary.

[FR Doc. 2024-06557 Filed 3-27-24; 8:45 am]

BILLING CODE 6717-01-P